DEPARTMENT OF DEFENSE

Department of the Navy

[Docket ID USN-2022-HQ-0016]

Proposed Collection; Comment Request

AGENCY: Department of the Navy, Department of Defense (DoD).

ACTION: 60-Day information collection notice.

SUMMARY: In compliance with the Paperwork Reduction Act of 1995, the United States Naval Academy announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 1, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the United States Naval Academy, 121 Blake Road, Annapolis, MD 21402, ATTN: Ms. Shannon Campbell, or call 410-293-1550.

SUPPLEMENTARY INFORMATION: Title; Associated Form; and OMB Number: United States Naval Academy Sponsor Program; USNA 1531/12; OMB Control Number 0703-0054.

Needs and Uses: The information collection requirement is necessary to determine eligibility and compatibility for the U.S. Naval Academy (USNA) Sponsor Program. The information will be used to assist the Naval Academy in managing the USNA Sponsor Program and to assign midshipmen to sponsors, to maintain a record of the names and addresses of families assigned as sponsors or who are interested in the Sponsor Program, and to contact sponsors either by phone or written correspondence.

Affected Public: Individuals or households.

Annual Burden Hours: 800.

Number of Respondents: 800.

Responses per Respondent: 1.

Annual Responses: 800.

Average Burden per Response: 1 hour.

Frequency: Annually.

Dated: May 24, 2022.
Aaron T. Siegel,
Alternate OSD Federal Register Liaison Officer, Department of Defense.

[FR Doc. 2022-11517 Filed 5-27-22; 8:45 am]

BILLING CODE 5001-06-P